DEPARTMENT OF HOMELAND SECURITY

Federal Emergency Management Agency

[Docket ID: FEMA-2009-0001]

Agency Information Collection Activities: Submission for OMB Review; Comment Request, OMB No. 1660-NEW; Radiological Emergency Preparedness Program Alert and Notification Phone Survey

AGENCY: Federal Emergency Management Agency, DHS.

ACTION: Notice; 30-day notice and request for comments; new information collection; OMB No. 1660-NEW; FEMA Form 111, Radiological Emergency Preparedness Program Alert and Notification Phone Survey.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before April 16, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Office of Records Management, 1800 South Bell Street, Arlington, VA 20598-3005, facsimile number (202) 646-3347, or e-mail address FEMA-Information-Collections@dhs.gov.

SUPPLEMENTARY INFORMATION:

Collection of Information

Title: Radiological Emergency Preparedness Program Alert and Notification Phone Survey.

Type of information collection: New information collection.

OMB Number: OMB No. 1660-NEW.

Form Titles and Numbers: FEMA Form 111, Radiological Emergency Preparedness Program Alert and Notification Phone Survey.

Abstract: Immediately following activation of a commercial nuclear power plant's alert and notification system, FEMA will conduct a telephone survey of a sample of residents within that plant's Emergency Planning Zone.

Affected Public: Individuals or households.

Estimated Number of Respondents: 338.

Frequency of Response: Once.

Estimated Average Hour Burden per Respondent: .1667 burden hours.

Estimated Total Annual Burden Hours: 56 burden hours.

Estimated Cost: None.

Dated: March 3, 2010.
Larry Gray,
Director, Office of Records Management, Office of Management, Federal Emergency Management Agency, Department of Homeland Security.

[FR Doc. 2010-5851 Filed 3-16-10; 8:45 am]

BILLING CODE 9111-46-P